DEPARTMENT OF LABOR

Employment and Training Administration

[TA-W-52,709]

Kana Software, Inc., Research & Development Department, Menlo Park, CA; Dismissal of Application for Reconsideration

Pursuant to 29 CFR 90.18(C) an application for administrative reconsideration was filed with the Director of the Division of Trade Adjustment Assistance for workers at Kana Software, Inc., Research & Development Department, Menlo Park, California. The application contained no new substantial information which would bear importantly on the Department's determination. Therefore, dismissal of the application was issued.

TA-W-52,709; Kana Software, Inc., Research & Development, Menlo Park, California (December 31, 2003)

Signed at Washington, DC this 14th day of January 2004.
Timothy Sullivan,
Director, Division of Trade Adjustment Assistance.

[FR Doc. 04-1432 Filed 1-22-04; 8:45 am]

BILLING CODE 4510-30-P